DEPARTMENT OF HEALTH AND HUMAN SERVICES

Centers for Disease Control And Prevention

[60Day-01-03]

Proposed Data Collections Submitted for Public Comment and Recommendations

In compliance with the requirement of section 3506 (c)(2)(A) of the Paperwork Reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Projects

Telephone Survey Measuring HIV/STD Risk Behavior Using Standard Methodology—New—National Center for HIV, STD, Tuberculosis Prevention (NCHSTP), CDC. The goal of the overall project is to conduct testing of a set of survey questions intended to obtain measures of risk behaviors for Human Immunodeficiency Virus (HIV) and Sexually Transmitted Diseases (STDs). This proposed data collection is for the second phase of this 2-year project. During the first phase questions were developed and tested, and a pretest of 203 interviews was conducted. During this second phase a pilot survey with a larger number of respondents will be conducted, and a small number of additional questions will be included measuring HIV-related stigma.

Knowledge about the level of HIV risk behaviors in populations is essential for effective HIV prevention programs. Currently, survey-based assessment of these behaviors depends on a range of survey questions that differ across surveys, and that are difficult to compare and to reconcile. Therefore, the Behavioral Surveillance Working Group, coordinated by the National Center for HIV, STD and Tuberculosis Prevention, Centers for Disease Control and Prevention, has developed a draft set of items to be proposed as standard survey questions on the topics of sexual behavior, HIV testing, drug use, and other behaviors related to risk of contracting HIV and/or STDs. As part of this effort, CDC will sponsor a telephone-based pilot of 400 persons aged 18-59, selected randomly from within an urban area, in order to test these questions.

Further, because some of the survey questions are private and potentially sensitive, the project will entail the testing of a survey administration mode: Telephone-based audio computer-assisted self-interview (T-ACASI), in which a computer will be used to administer the most sensitive questions, and in which the surveyed individual enters responses directly onto the telephone keypad. This procedure eliminates the need for communication of sensitive questions from the interviewer to the respondent, as well as the need for respondents to answer the questions verbally. In order to test the effectiveness of this procedure, half of the interviews will be conducted using the T-ACASI procedure for the most sensitive questions, and half using standard, interviewer-based administration of all questions. Data analysis will rely on an assessment of the response rate under each mode, and on the nature of the data obtained to the sensitive questions. The larger sample size of the year 2 pilot survey will enable us to test statistical significance of the effectiveness of the T-ACASI procedure.

Information and data obtained from this evaluation will help direct future surveys, by determining whether it is feasible to attempt to administer these standard risk questions using a telephone survey, and whether a T-ACASI-based procedure represents a technological innovation that will positively contribute to such an effort, through improvements in data quality. The total cost to respondents is $1355.52.

Respondents | No. of respondents | No. of responses/respondent | Avg. burden per response (in hours) | Total burden (in hours)
Screening | 1872 | 1 | 0.02 | 37.4
Interview | 400 | 1 | 0.33 | 132.0
Total Burden |  |  |  | 169.4

Dated: October 17, 2000.
Nancy Cheal,
Acting Associate Director for Policy, Planning, and Evaluation, Centers for Disease Control and Prevention (CDC).

[FR Doc. 00-27118 Filed 10-20-00; 8:45 am]

BILLING CODE 4163-18-P